DEPARTMENT OF COMMERCE

International Trade Administration

[A-533-889]

Quartz Surface Products From India: Final Results of the Expedited First Sunset Review of the Antidumping Duty Order

AGENCY: Enforcement and Compliance, International Trade Administration, Department of Commerce.

SUMMARY: The U.S. Department of Commerce (Commerce) finds that revocation of the antidumping duty (AD) order on quartz surface products from India would be likely to lead to continuation or recurrence of dumping, at the levels indicated in the “Final Results of Sunset Review” section of this notice.

DATES: Applicable August 28, 2025.

FOR FURTHER INFORMATION CONTACT: David DeFalco, Trade Agreements Policy and Negotiations, Enforcement and Compliance, International Trade Administration, U.S. Department of Commerce, 1401 Constitution Avenue NW, Washington, DC 20230; telephone: 202-482-2178.

SUPPLEMENTARY INFORMATION:

Background

On June 22, 2020, Commerce published the Order in the Federal Register.¹ On May 1, 2025, Commerce published the initiation notice of the first sunset review of the Order, pursuant to section 751(c) of the Tariff Act of 1930, as amended (the Act).² On May 13, 2025, Commerce received a timely and complete notice of intent to participate in the sunset review from Domestic Interested Parties ³ within the deadline specified in the 19 CFR 351.218(d)(1)(i).⁴ The Domestic Interested Parties claimed interested party status within the meaning of section 771(9)(C) of the Act as manufacturers, producers or wholesalers in the United States of the domestic like product.⁵ On May 22, 2025, Commerce notified the U.S. International Trade Commission (ITC) that it had received a notice of intent to participate from the Domestic Interested Parties.⁶

¹ See Quartz Surface Products from India and Turkey: Antidumping Duty Orders, 85 FR 37422 (June 22, 2020) (Order).

² See Initiation of Five-Year (Sunset) Reviews, 90 FR 18642 (May 1, 2025).

³ The Domestic Interested Parties are Cambria Company LLC; Dal-Tile LLC; and Guidoni USA.

⁴ See Domestic Interested Parties' Letter, “Notice of Intent to Participate in the First Five-Year Review of the Antidumping Duty Order on Quartz Surface Products from India,” dated May 13, 2025.

⁵ Id. at 2.

⁶ See Commerce's Letter, “Sunset Reviews Initiated on February 3, 2025,” dated May 22, 2025.

On June 2, 2025, pursuant to 19 CFR 351.218(d)(3)(i), domestic interested parties filed a timely and adequate substantive response.⁷ Commerce did not receive a substantive response from any respondent interested party. On June 20, 2025, Commerce notified the ITC that it did not receive substantive response from any respondent interested parties.⁸ As a result, pursuant to section 751(c)(3)(B) of the Act and 19 CFR 351.218(e)(1)(ii)(C)(2), Commerce is conducting an expedited (120-day) sunset review of the Order.

⁷ See Domestic Interested Parties' Letter, “First Five-Year (“Sunset”) Review of the Antidumping Duty Order on Quartz Surface Products from India: Domestic Interested Parties' Substantive Response,” dated June 2, 2025 (Substantive Response).

⁸ See Commerce's Letter, “Sunset Reviews Initiated on May 1, 2025,” dated June 20, 2025.

Scope of the Orders

The product covered by these Order is quartz surface products from India. For the full description of the scope of the Order, see the Issues and Decisions Memorandum.⁹

⁹ See Memorandum, “Issues and Decision Memorandum for the Final Results of the Expedited First Sunset Review of the Antidumping Duty Order on Quartz Surface Products from India,” dated concurrently with, and hereby adopted by, this notice.

Analysis of Comments Received

A complete discussion of all issues raised in this sunset review, including the likelihood of continuation or recurrence of dumping in the event of revocation of the Order and the magnitude of the margins likely to prevail if the Order were to be revoked, is provided in the accompanying Issues and Decision Memorandum.¹⁰ A list of the topics discussed in the Issues and Decision Memorandum is attached in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

¹⁰ Id.

Final Results of Sunset Review

Pursuant to sections 751(c)(1), 752(c)(1) and (3) of the Act, Commerce determines that revocation of the Order would be likely to lead to continuation or recurrence of dumping, and that the magnitude of the dumping margins likely to prevail would be weighted-average dumping margins up to 5.15 percent.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: August 22, 2025.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2025-16477 Filed 8-27-25; 8:45 am]

BILLING CODE 3510-DS-P